DEPARTMENT OF DEFENSE

Office of the Secretary

[Docket ID: DoD-2024-HA-0068]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by October 23, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Defense Health Agency Patient Safety Culture Survey; OMB Control Number 0720-0034.

Type of Request: Extension.

Number of Respondents: 30,965.

Responses per Respondent: 1.

Annual Responses: 30,965.

Average Burden per Response: 10 minutes.

Annual Burden Hours: 5,161.

Needs and Uses: The 2001 National Defense Authorization Act (NDAA) contains specific sections addressing patient safety in military and veterans' health care systems. This legislation states that the Secretary of Defense shall establish a patient care error reporting and management system to study occurrences of errors in patient care and that one purpose of the system should be to “identify systemic factors that are associated with such occurrences” and “to provide for action to be taken to correct the identified systemic factors” (Sec. 754, items b2 and b3). In addition, the legislation states that the Secretary shall “continue research and development investments to improve communication, coordination, and teamwork in the provision of health care” (Sec. 754, item d4). As an ongoing response to this legislation, DHA Headquarters has implemented a web-based patient safety culture survey to obtain DHA staff opinions on patient safety issues. Participation in the DHA Patient Safety Culture Survey also fulfills The Joint Commission (TJC) accreditation requirements related to assessing patient safety culture and using the results to improve. As part of its Leadership Standards, TJC requires facility leaders to regularly evaluate the culture of safety and quality using valid and reliable tools and prioritize and implement changes identified by the evaluation. Additionally, DHA inpatient military treatment facilities (MTFs) recently began participating in The Leapfrog Hospital Safety Grade, an initiative that provides a letter grade rating of a hospital's patient safety measures through more than 30 national performance indicators. Participation in the DHA Patient Safety Culture Survey provides MTFs with data and information assessed by The Leapfrog Group as part of the Hospital Safety Grade calculation.

Affected Public: Federal government; individuals or households.

Frequency: As required.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: September 17, 2024.
Aaron T. Siegel,
Alternate OSD Federal Register Liaison Officer, Department of Defense.

[FR Doc. 2024-21627 Filed 9-20-24; 8:45 am]

BILLING CODE 6001-FR-P